DEPARTMENT OF DEFENSE

Office of the Secretary

[Transmittal No. 16-27]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Chandelle K. Parker, DSCA/LMO, (703) 697-9027.

The following is a copy of a letter to the Speaker of the House of Representatives, Transmittal 16-27 with attached Policy Justification and Sensitivity of Technology.

Dated: July 20, 2016.
Aaron Siegel,
Alternate OSD Federal Register Liaison Officer, Department of Defense.

Transmittal No. 16-27

Notice of Proposed Issuance of Letter of Offer Pursuant to Section 36(b)(1) of the Arms Export Control Act, as amended

(i) Prospective Purchaser: United Arab Emirates

(ii) Total Estimated Value:

Major Defense Equipment * | $740 million
Other | $45 million
TOTAL | $785 million

(iii) Description and Quantity or Quantities of Articles or Services under Consideration for Purchase:

Major Defense Equipment (MDE):

Seven thousand seven hundred (7,700) GBU-10 guidance kits

Seven thousand seven hundred (7,700) Mk-84/BLU-117 bombs

Five thousand nine hundred forty (5,940) GBU-12 guidance kits

Five thousand nine hundred forty (5,940) Mk-82/BLU-111 bombs

Five hundred (500) GBU-31V1 guidance kits

Five hundred (500) Mk-84/BLU-117 bombs

Five hundred (500) GBU-31V3 guidance kits

Five hundred (500) BLU-109 bombs

Fourteen thousand six hundred forty (14,640) FMU-152 fuzes

Non-MDE:

Also included is munitions support. The estimated value of this possible sale is $785 million.

(iv) Military Department: USAF (AAD, A02)

(v) Prior Related Cases, if any: SAA-$113,853,132-AUG 00, YAB-$156,304,329-AUG 02, YAC-$874,241,603-MAR 08, AAC-$13,467,991-JUN 11, AAD-$11,827,867-JAN 15, AAE-$130,000,000-OCT 15, AAF-$310,000,000-JAN 16

(vi) Sales Commission, Fee, etc., Paid, Offered, or Agreed to be Paid: None

(vii) Sensitivity of Technology Contained in the Defense Article or Defense Services Proposed to be Sold: See Attached Annex.

(viii) Date Report Delivered to Congress: 15 July 2016

* as defined in Section 47(6) of the Arms Export Control Act.

Policy Justification

United Arab Emirates—Munitions, Sustainment, and Support

The Government of the United Arab Emirates (UAE) requests approval to procure seven thousand seven hundred (7,700) GBU-10 guidance kits with seven thousand seven hundred (7,700) Mk-84/BLU-117 bombs, five thousand nine hundred forty (5,940) GBU-12 guidance kits with five thousand nine hundred forty (5,940) Mk-82/BLU-111 bombs, five hundred (500) GBU-31V1 guidance kits with five hundred (500) Mk-84/BLU-117 bombs, five hundred (500) GBU-31V3 guidance kits with five hundred (500) BLU-109 bombs, and fourteen thousand six hundred forty (14,640) FMU-152 fuzes. This sale also includes non-MDE munitions items. The total estimated value of MDE is $740 million. The overall total estimated value is $785 million.

This proposed sale contributes to the foreign policy and national security of the United States by helping the UAE remain an active member of the OPERATION INHERENT RESOLVE (OIR) coalition working to defeat the Islamic State in Iraq and the Levant (ISIL). These munitions will sustain the UAE's efforts and support a key partner that remains an important force for political stability and economic progress in the Middle East.

The proposed sale provides the UAE additional precision guided munitions to meet current and future threats. The UAE continues to provide host-nation support of vital U.S. forces stationed at Al Dhafra Air Base and plays a vital role in supporting U.S. regional interests. The UAE was a valued partner and active participant in OPERATION IRAQI FREEDOM (OIF), OPERATION ENDURING FREEDOM (OEF), OPERATION UNIFIED PROTECTOR (OUP), and now is a valued partner in OIR coalition operations.

The proposed sale of this equipment and support will not alter the basic military balance in the region.

The UAE will have no difficulties absorbing these munitions into its inventory.

The munitions will be sourced through procurement and the contractor determined during contract negotiations. There are no known offset agreements proposed in connection with this potential sale.

There are no additional U.S. Government or contractor representatives anticipated to be stationed in the UAE as a result of this potential sale.

There will be no adverse impact on U.S. defense readiness as a result of this proposed sale.

Transmittal No. 16-27

Notice of Proposed Issuance of Letter of Offer Pursuant to Section 36(b)(1) of the Arms Export Control Act, as amended

Annex

Item No. vii

(vii) Sensitivity of Technology:

1. The GBU-31 2,000-pound Joint Direct Attack Munition (JDAM) is a guidance tail kit that converts unguided free-fall bombs into accurate, Global Positioning System (GPS) guided adverse weather “smart” munitions. With the addition of a new tail section that contains an inertial navigational system (INS) and a GPS guidance control unit, JDAM improves the accuracy of unguided, general-purpose bombs in an all-weather condition. JDAM can be launched from very low to high altitudes in a dive, toss and loft, or in straight and level flight with an on-axis or off-axis delivery. JDAM enables multiple weapons to be directed against single or multiple targets on a single pass.

a. The GBU-31V1 contains the standard 2,000-pound BLU-117 or Mk-84 bomb body. The GBU-31V3 contains the 2,000-pound BLU-109 penetrator bomb body. The highest classification for the JDAM, its components, and technical data is SECRET.

b. Weapon accuracy depends on target coordinates and present position as entered into the guidance control unit. After weapon release, movable tail fins guide the weapon to the target coordinates. In addition to the tail kit, other elements in the overall system that are essential for successful employment include: Access to accurate target coordinates, INS/GPS capability, and Operational Test and Evaluation Plan.

2. The GBU-12 is a 500-pound laser-guided ballistic bomb (LGB). The LGB is a maneuverable, free-fall weapon that guides to a spot of laser energy reflected off of the target. The LGB is delivered like a normal general-purpose (GP) warhead and the semi-active guidance corrects for many of the normal errors inherent in any delivery system. Laser designation for the weapon can be provided by a variety of laser target markers or designators.

a. The LGB consists of a laser guidance kit, a computer control group (CCG), and a warhead specific Air Foil Group (AFG), that attach to the nose and tail of Mk-82 or BLU-111 bomb bodies. The overall weapon is CONFIDENTIAL.

3. The GBU-10 is a 2,000-pound laser-guided ballistic bomb (LGB). The LGB is a maneuverable, free-fall weapon that guides to a spot of laser energy reflected off of the target.

The LGB is delivered like a normal GP warhead and the semi-active guidance corrects for many of the normal errors inherent in any delivery system. Laser designation for the weapon can be provided by a variety of laser target markers or designators.

a. The LGB consists of a laser guidance kit, a CCG, and a warhead AFG that attach to the nose and tail of Mk-84 or BLU-117 bomb body. The overall weapon is CONFIDENTIAL.

4. The FMU-152 is a multi-delay, multi-arm fuze and proximity sensor compatible with GP blast, fragmentation, and hardened-target penetrator warheads. The fuze is cockpit selectable in-flight (prior to release) when used with JDAM weapons. The FMU-152 interfaces with the GBU-10, GBU-12, and GBU-31 weapons among others. The hardware is UNCLASSIFIED.

5. A determination has been made that the UAE can provide substantially the same degree of protection for the sensitive technology being released as the U.S. Government.

6. This sale is necessary in furtherance of the U.S. foreign policy and national security objectives outlined in the Policy Justification. Moreover, the benefits to be derived from this sale outweigh the potential damage that could result if the sensitive technology were revealed to unauthorized persons.

7. All defense articles and services listed in this transmittal have been authorized for release and export to the UAE.

[FR Doc. 2016-17483 Filed 7-22-16; 8:45 am]

BILLING CODE 5001-06-P